DEPARTMENT OF AGRICULTURE

Tahoe National Forest; Yuba River Ranger District; California; South Yuba Canal Maintenance Project

AGENCY: Forest Service, USDA.

ACTION: Notice of intent to prepare an Environmental Impact Statement.

SUMMARY: The USDA Forest Service, Tahoe National Forest, Yuba River Ranger District, gives notice of the Agency's intent to prepare an Environmental Impact Statement (EIS) to remove hazardous trees located within approximately 150 feet of either side of the centerline of the South Yuba Canal, within the public lands of the Tahoe National Forest.

DATES: Comments concerning the scope of the analysis must be received by 30 days from the date of publication of this notice in the Federal Register. The Draft Environmental Impact Statement (DEIS) is expected to be completed in April of 2006, and the Final Environmental Impact Statement (FEIS) is expected to be completed in July of 2006.

ADDRESSES: Send written comments to Dennis Stevens, USDA Forest Service, Yuba River Ranger District, 15924 Highway 49, Camptonville, CA 95922, office hours 8 a.m. to 4:30 p.m., Monday-Friday; telephone 530 478-6253; FAX 530 288-0727; e-mail: comments-pacificsouthwest-tahoe-downieville@fs.fed.us.

FOR FURTHER INFORMATION CONTACT: Dennis Stevens or Patrick Farrell at the above address and phone number.

SUPPLEMENTARY INFORMATION: Pacific Gas and Electric Company's (PG&E) South Yuba Canal System is part of the Drum-Spaulding Hydro System (License 2310), currently issued by the Federal Energy Regulatory Commission (FERC) through the year 2013. The South Yuba Canal System operates primarily for the delivery of domestic and agricultural water use within the communities of Nevada City and Grass Valley, California. Additionally, the water delivered through the system is used to generate electricity for the people of Northern California from the Spaulding No. 2 and Deer Creek Powerhouses. The South Yuba Canal System is approximately nineteen miles long and traverses both private and National Forest Lands. Approximately 11.6 miles of the system are located within the Yuba River Ranger District of the Tahoe National Forest.

The Nevada Irrigation District (NID) utilizes PG&E's South Yuba Canal to import water into the Deer Creek watershed where it becomes the primary water supply for NID's Cascade Canal System. Approximately 97 percent of the water used in the Cascade Canal System originates from water diverted from the South Yuba Canal. The remaining three percent comes from natural flow within the Deer Creek drainage. Currently, over 30,000 people are served by this canal system. Along with the residential and agricultural use, water is also provided to fire stations, county and city hydrant systems, schools, the Sierra Nevada Memorial Hospital, and the USFS/CDF Emergency Command Center/Air-Attack Base.

The Cascade Canal system supplies raw water to three of the District's treatment plants in the areas surrounding Grass Valley and Nevada City. There are 10,420 service connections for domestic water from these treatment plants. There are also 1,450 service connections for agricultural and domestic customers that are served directly from the Cascade Canal system.

A list of routine canal maintenance work is identified by PG&E, and except for emergencies, all work is scheduled for completion during an annual outage. During this annual outage, the canal system is dewatered. This allows for the entire system to be inspected in order to plan for future work. Flume sections are checked for wood integrity, open ditch sections are checked for deterioration and hazard trees are identified.

The yearly outage occurs during the month of April, and is scheduled at that time because it causes the least disruption to water deliveries while providing a weather window to complete the work. The annual outage is typically two weeks long, commencing around the first of April and ending by the second week of the month. During this period all major routine work to the canal system as well as annual maintenance to Spaulding No. 2 and Deer Creek Powerhouses must be accomplished.

Purpose and Need for Action

The Hydrological Division of the Pacific Gas and Electric Company requested the Tahoe National Forest consider a project proposal that would remove trees on public land that currently threaten, or may threaten within the foreseeable future (five to ten years), the structural integrity of the South Yuba Canal. PG&E structural engineers believe that a preventive maintenance strategy is needed at this time due to the following conditions:

• The winter of 2004-2005 caused significant maintenance problems for PG&E due to tree windthrow and breakage along the canal. Damage and repairs resulted in a disruption of flow and threatened the supply of water to consumers.

• Currently, there are numerous trees within falling distance of the canal that, due to their physical condition and location, pose a threat to the canal and its associated facilities.

• The winter storms of 2005-2006 have already resulted in structural damage along the canal. Blown-over, unstable trees and snapped tree-tops from nearby trees were the primary cause of damage to the canal.

• The population residing within the local Sierra Nevada foothill communities has more than doubled in the past 35 years and the number of people currently living within the PG&E and NID service area is forecasted to triple by 2040.

• Millions of visitors continue to travel to western Nevada County to enjoy aquatic recreational pursuits. Annual increases in local residents and tourist visitor-days continue to strain the capability of the current water supply infrastructure to meet customer demands.

• If the current annual maintenance strategy of clearing only trees after they have caused damage continues, the results will be continued breeches along the canal, continued disruptions in water deliveries, and escalating maintenance costs that inevitably must be passed along to consumers.

Because of the large number and various types of clientele served by the South Yuba Canal System, there is a critical need to develop a long-range (5-10 years) protection strategy that will better ensure the integrity of the primary facility for delivering water to western Nevada County residents. During the last three decades, Nevada County has experienced a steady growth in population. This population expansion has lead to a greater demand in maintaining a reliable water system. Interruption of flow compromises both PG&E and NID's ability to provide dependable service.

The greatest threat to maintaining uninterrupted flows to the South Yuba Canal is the stands of mixed conifers and hardwoods that grow within an approximate one hundred fifty foot strip on either side of the canal's centerline. Due to limited accessibility and the difficulty of removing these trees from close proximity to the canal, many trees that currently pose a hazard to the canal have not been harvested during past ground-based logging activities. Numerous trees within falling distance of the canal show signs of stress, disease, instability and damage. Many of these trees are presently growing directly into the canal berm and have grown large enough to cause cracking within the concrete linings. The root structures continue growing and create pathways for water to leak through the berm, providing a mechanism for future canal failure.

Additionally, damage to the canal's infrastructure occurs when trees located along the canal uproot, break-off or breech the flume during storms or high wind events. When a tree falls into a wooden flume it will often cause major damage that results in complete structural failure. If a tree falls into an open ditch section, it usually will not completely destroy the berm. However, the limbs and debris will dam the water in the canal, potentially creating an “over-topping” situation. This situation can lead to a berm washout depending upon the flows and the length of time the situation exists. These types of incidents are often discovered by PG&E's system operators monitoring the alarm stations.

Therefore, the primary goal of this proposal is to develop a protection strategy along the South Yuba Canal that will reduce the annual amount of damage to the canal's infrastructure that routinely results in interrupted flows due to uprooting and breakage from trees located along the canal. The intent is to provide a preventative, longer-term (5-10 years) approach to lessen the amount and intensity of damage to the canal.

Proposed Action

The proposed action is to remove hazardous trees located within approximately 150 feet of either side of the centerline of the South Yuba Canal, within the public lands of the Tahoe National Forest. Trees within falling distance of the canal, canal maintenance structures or canal electronic monitoring equipment that exhibit the following characteristics will be evaluated for removal:

• Dead/dying trees.

• Trees and dead tops of sufficient length to pose a threat of breakage.

• Trees with significant signs of rot or decay.

• Severely forked trees whose tops, boles or large limbs encroach upon the canal.

• Trees weakened by insects and disease.

• Trees where the root system is sufficiently exposed to indicate instability.

• Trees where the root system is currently penetrating, or will likely penetrate the berm or fill of the canal, thus jeopardizing structural integrity.

• Trees having a decisive lean towards the canal, canal maintenance structures or canal electronic equipment.

The project area extends along both sides of an estimated 11.6 miles of canal located on public lands within the Tahoe National Forest. Currently, it is estimated that maintenance tree removal would involve a ground based harvest system on approximately 20 percent of the project area, while the remaining 80 percent would require an aerial harvest system.

Only trees that currently threaten, or would likely threaten the structural integrity of the canal system over the next 5-10 years, will be assessed for risk, be designated, and removed under this proposal.

The project area includes portions of several California spotted owl and northern goshawk Protected Activity Centers (PACs). While the project will be designed to minimize impacts to these species, removal of certain hazard trees (specifically those that could cause structural damage to the canal through felling activities) can only be done during the annual dewatering period in April. In order to implement this project, the responsible official may not be able to fully implement Standard and guideline No. 75 for the California spotted owl and No. 76 for the northern goshawk, which require a limited operating period for vegetation treatments within approximately ¼ mile of nest sites during the breeding season, from March 1 through August 31 for the California spotted owl and February 15 through September 15 for the northern goshawk (USDAS Forest Service, Sierra Nevada Forest Plan amendment Final Supplemental Environmental Impact Statement Record of Decision, 2004, p. 60). In order for this project to comply with existing laws and regulations, it would necessitate a non-significant amendment to the Tahoe National Forest Land Management Plan (TNFLMP), to lift the requirement to apply Standard and Guideline Nos. 75 and 76, for implementation of this project.

Responsible Official

The responsible Official for this decision is the forest Supervisor of the Tahoe National Forest, Steven T. Eubanks; Tahoe National Forest Supervisors Office, 631 Coyote Street, Nevada City, CA 95959. As the responsible official, he will document the decision and reasons for the decision in the Record of Decision (ROD), which will be published along with the FEIS.

Nature of Decision To Be Made

The decision to be made is whether to implement the proposed action as described above, to vary the location or design of the project to meet the purpose and need while addressing issues raised in public scoping, or to take no action at this time.

Scoping Process

Public participation is viewed as an integral part of the environmental analysis. The Forest Service will be seeking points of dispute, disagreement or debate from Federal, State, and local governmental agencies as well as from individuals or organizations that may be potentially interested or affected by the proposed action. A scoping letter will be mailed to persons who have expressed interest in the proposed action based on notifications in the Tahoe National Forest Quarterly Schedule of Proposed actions and by notification through a published legal notice in Grass Valley's The Union (the newspaper of record for this project), Grass Valley, California. In addition, adjacent land owners will be mailed scoping letters.

Comment Requested

This notice of intent initiates the scoping process which guides the development of the environmental impact statement. Comments submitted during the scoping process should be in writing or e-mail, and should be specific to the proposed action. The comments should describe as clearly and completely as possible any points of dispute, debate or disagreement the commenter has with the proposal. Once scoping letters are received, the District shall identify all potential issues, eliminate non-significant issues or those covered by another environmental analysis, identify significant issues to analyze in depth, develop additional alternatives to address those significant issues, and identify potential environmental effects of the proposed action as well as all fully analyzed alternatives.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: February 7, 2006.
Steven T. Eubanks,
Forest Supervisor.

[FR Doc. 06-1346 Filed 2-13-06; 8:45 am]

BILLING CODE 3410-11-M